DEPARTMENT OF HEALTH AND HUMAN SERVICES

National Committee on Vital and Health Statistics: Meeting

Pursuant to the Federal Advisory Committee Act, the Department of Health and Human Services announces the following advisory committee meeting.

Name: National Committee on Vital and Health Statistics (NCVHS) Executive Subcommittee, Workgroup on Health Statistics for the 21st Century, Subcommittee on Populations.

Times and Dates: 8:30 a.m to 5:30 p.m., August 14, 2001; and 8:30 a.m. to 3:45 p.m., August 15, 2001.

Place: The Westin O'Hare, 6100 River Road, Rosemont, IL 60018, (847) 698-6000.

Status: Open.

Purpose: The Executive Subcommittee will use the first day as a retreat for Committee planning purposes. The Subcommittee will plan future Committee meetings and review work plans for 2001 and early 2002. Strategic planning will include organizing and integrating agenda issues across priorities, reviewing the efficiency and effectiveness of the current Committee structure and meeting schedule, and positioning the Committee to address new and emerging topics.

In the morning on the second day, the Workgroup on Health Statistics for the 21st Century will meet to discuss their draft report “Shaping a Vision for 21st Century Health Statistics.” The Workgroup will also discuss plans to get feedback on related issues and plan its next steps. The Subcommittee on Populations will meet in the afternoon of the second day to discuss future directions for further work in the area of the implementation of OMB standards for the collection and reporting of data on race and ethnicity. Other issues to be discussed are the structure and future directions for the Subcommittee.

Contact Person for More Information: Substantive program information as well as summaries of meetings and a roster of committee members may be obtained from Marjorie S. Greenberg, Executive Secretary, NCVHS, National Center for Health Statistics, Center for Disease Control and Prevention, Room 1100, Presidential Building, 6525 Belcrest Road, Hyattsville, Maryland 20782, telephone (301) 458-4245. Information also is available on the NCVHS home page of the HHS website: http://www.ncvhs.hhs.gov/ where an agenda for the meeting will be posted when available.

Dated: July 31, 2001.
James Scanlon,
Director, Division of Data Policy, Office of the Assistant Secretary for Planning and Evaluation.

[FR Doc. 01-19650 Filed 8-6-01; 8:45 am]

BILLING CODE 4151-05-M